DEPARTMENT OF COMMERCE

National Oceanic and Atmospheric Administration

[RTID 0648-XB093]

Taking of Threatened or Endangered Marine Mammals Incidental to Commercial Fishing Operations; Issuance of Permits; Correction

AGENCY: National Marine Fisheries Service (NMFS), National Oceanic and Atmospheric Administration (NOAA), Commerce.

ACTION: Notice; correction.

SUMMARY: NMFS is correcting a notice that appeared in the Federal Register on May 6, 2021, that issues permits for a period of 3 years to authorize the incidental, but not intentional, take of specific Endangered Species Act (ESA)-listed marine mammal species or stocks under section 101(a)(5)(E) of the Marine Mammal Protection Act (MMPA), in certain U.S. commercial fisheries. There is an error in the description of the Category III fisheries that do not require section 101(a)(5)(E) authorization.

DATES: This notice is applicable May 20, 2021.

FOR FURTHER INFORMATION CONTACT: Suzie Teerlink, NMFS Alaska Region, (907) 586-7240, Suzie.Teerlink@noaa.gov; Diana Kramer, NMFS Pacific Islands Region, (808) 725-5167, Diana.Kramer@noaa.gov; Kara Shervanick, NMFS Southeast Region, (727) 824-5350, Kara.Shervanick@noaa.gov; or Caroline Good, NMFS Office of Protected Resources, (301) 427-8402, Caroline.Good@noaa.gov.

SUPPLEMENTARY INFORMATION: NMFS published a notice on May 6, 2021 (86 FR 24384) issuing permits to five fisheries to authorize the incidental take of ESA-listed marine mammal species or stocks under section 101(a)(5)(E) of the MMPA. The permits are effective for a 3-year period beginning May 6, 2021.

The notice incorrectly stated: “The HI shallow-set longline/Western Pacific pelagic longline (HI shallow-set component) changed classification from Category II to Category III in the 2021 LOF (86 FR 3028, January 14, 2021).” (86 FR 24384, 24386).

The Category II HI shallow-set longline fishery and the HI shallow-set component of the Western Pacific pelagic longline fisheries were not reclassified as Category III fisheries on the 2021 LOF (see 86 FR 3028, January 14, 2021). These two fisheries remain Category II fisheries on the LOF. As we stated in our Federal Register notice of the issuance of MMPA section 101(a)(5)(E) permits, we had previously determined that these fisheries meet the definition of a Category III with respect to ESA-listed stocks or species because they have a remote likelihood of or no known incidental mortality of serious injury of ESA-listed marine mammals, and therefore did not require permits. (86 FR 24384, 24386)

However, the Category II AK Bering Sea, Aleutian Islands Pacific cod longline fishery was reclassified as a Category III fishery on the 2021 LOF (86 FR 3028, January 14, 2021). As we stated in our Federal Register notice for issuance of the permits, we previously determined this fishery was considered a Category III commercial fishery with respect to ESA-listed stocks or species, so this change in classification does not change our determination.

NMFS is publishing this notice to correct these errors and state that the AK Bering Sea, Aleutian Islands Pacific cod longline fishery changed classification from Category II to Category III on the 2021 List of Fisheries (LOF) while the Category II HI shallow-set longline fishery and the HI shallow-set component of the Western Pacific pelagic longline fishery did not change classification (86 FR 3028, January 14, 2021). These fisheries were already considered Category III commercial fisheries with respect to ESA-listed stocks or species, so these corrections do not change our proposed determinations.

Dated: May 17, 2021.
Catherine Marzin,
Acting Director, Office of Protected Resources, National Marine Fisheries Service.

[FR Doc. 2021-10631 Filed 5-19-21; 8:45 am]

BILLING CODE 3510-22-P